ENVIRONMENTAL PROTECTION AGENCY

[FRL-9451-8]

Science Advisory Board Staff Office; Notification of Public Teleconferences of the Science Advisory Board Radiation Advisory Committee

AGENCY: Environmental Protection Agency (EPA).

ACTION: Notice.

SUMMARY: The EPA Science Advisory Board (SAB) Staff Office announces two teleconferences of the SAB Augmented Radiation Advisory Committee (RAC) to discuss the draft advisory report related to uranium and thorium in-situ leach recovery and post-closure stability monitoring.

DATES: The public teleconferences will be conducted on Tuesday, September 6, 2011 and Wednesday, October 5, 2011, from 1 p.m. to 4 p.m. (Eastern Daylight Time).

ADDRESSES: The public teleconferences will be conducted by telephone only.

FOR FURTHER INFORMATION CONTACT: Any member of the public wishing further information regarding this Notice may contact Dr. K. Jack Kooyoomjian, Designated Federal Officer (DFO), SAB Staff Office (1400R), 1200 Pennsylvania Avenue, NW., Washington, DC 20460; or by telephone/voice mail at (202) 564-2064, or via e-mail at kooyoomjian.jack@epa.gov. General information concerning the EPA Science Advisory Board can be found at the EPA SAB Web site at http//www.epa.gov/sab.

Technical Contact: Technical background information pertaining to the Uranium In-Situ leach recovery—Post-Closure Stability Monitoring can be found at http://www.epa.gov/radiation/tenorm/pubs.html. Information pertaining to EPA's regulatory standards in 40 CFR part 192—Health and Environmental Protection Standards for Uranium and Thorium Mill Tailings can be found at http://yosemite.epa.gov/opei/rulegate.nsf/byRIN/2060-AP43?opendocument. For questions concerning the technical aspects of this topic, please contact Dr. Mary E. Clark of the U.S. EPA, ORIA by telephone at (202) 343-9348, or via e-mail at clark.marye@epa.gov.

SUPPLEMENTARY INFORMATION: Background: The SAB was established pursuant to the Environmental Research, Development, and Demonstration Authorization Act (ERDAA), codified at 42 U.S.C. 4365, to provide independent scientific and technical peer review advice, consultation and recommendations to the EPA Administrator on the technical basis for Agency actions, positions and regulations. As a Federal Advisory Committee, the SAB conducts business in accordance with the Federal Advisory Committee Act (FACA) (5 U.S.C. App. 2) and related regulations. Pursuant to FACA and EPA policy, notice is hereby given that the augmented RAC will hold two public teleconferences. The SAB will comply with the provisions of FACA and all appropriate EPA and SAB Staff Office procedural policies.

The EPA has requested the SAB review the Agency draft technical document on ISL/ISR post closure stability monitoring to evaluate what criteria should be considered to establish a specific period of monitoring for ISL/ISR facilities, once uranium extraction operations are completed. Among the issues to be considered are whether specific site characteristics, features or benchmarks can be used to aid in establishing a post-closure monitoring time period; and if other technical approaches should be considered by EPA to provide reasonable assurances of aquifer stability and groundwater protection. The Agency's draft technical document will be used as a basis to evaluate the technical and scientific issues pertaining to standards in 40 CFR part 192—Health and Environmental Protection Standards for Uranium and Thorium Mill Tailings. The SAB RAC augmented with additional experts held an initial public teleconference of July 12, 2011 and a two-day meeting on July 18 and 19, 2011 to discuss advisory comments on the EPA's June 2011 draft technical document entitled “Considerations Related to Post-Closure Monitoring of Uranium In-Situ Leach/In-Situ Recovery (ISL/ISR) Sites”. These previous meetings were announced in the Federal Register on Thursday, June 23, 2011 (Vol. 76, No. 121, pp. 36918-36919). The purpose of the September 6, 2011 and October 5, 2011 public teleconferences is for the augmented RAC to discuss its draft advisory report on this topic.

Availability of Meeting Materials: The Agenda, roster of the augmented RAC, the charge to the SAB for the consultation, and other supplemental materials in support of the two public teleconferences will be placed on the SAB Web site at http//www.epa.gov/sab in advance of the teleconference and meeting.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it provides specific scientific or technical information or analysis for SAB panels to consider or if it relates to the clarity or accuracy of the technical information. Members of the public wishing to provide comment should contact the Designated Federal Officer directly at the contact information provided.

Oral Statements: In general, individuals or groups requesting an oral presentation at a teleconference will be limited to three minutes. Those interested in being placed on the public speakers list for either the September 6 and October 5, 2011 teleconferences should contact Dr. Kooyoomjian at the contact information provided above no later than noon on September 2, 2011 for the September 6, 2011 teleconference, and no later than October 3, 2011 for the October 5, 2011 teleconference.

Written Statements: Written statements should be supplied to the DFO via e-mail at the contact information noted by noon September 2, 2011 for the September 6, 2011 teleconference, and no later than Monday, October 3, 2011 for the October 5, 2011 teleconference, so that the information may be made available to the members of the augmented RAC and the public for their consideration. Written statements should be supplied in one of the following electronic formats: Adobe Acrobat PDF, MS Word, MS PowerPoint, or Rich Text files in IBM-PC/Windows98/2000/XP format. It is the SAB Staff office general policy to post written comments on the Web page for the advisory meeting or teleconference. Submitters are requested to provide an unsigned version of each document, because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Kooyoomjian at (202) 564-2064, or e-mail kooyoomjian.jack@epa.gov. To request accommodation of a disability, please contact Dr. Kooyoomjian preferably at least ten days prior to the teleconference or meeting to give as much time as possible to process your request.

Dated: August 9, 2011.
Vanessa T. Vu,
Director, EPA Science Advisory Board Staff Office.

[FR Doc. 2011-20824 Filed 8-15-11; 8:45 am]

BILLING CODE 6560-50-P